DEPARTMENT OF COMMERCE

International Trade Administration

A-427-801, A-428-801, A-475-801, A-588-804, A-401-801, A-412-801]

Antifriction Bearings (Other Than Tapered Roller Bearings) and Parts Thereof From France, Germany, Italy, Japan, Sweden, and the United Kingdom; Notice of Extension of Time Limits for Final Results of Antidumping Administrative Reviews

AGENCY: Import Administration, International Trade Administration, Department of Commerce.

ACTION: Notice of extension of time limits for final results of antidumping duty administrative reviews.

EFFECTIVE DATE: June 12, 2001.

FOR FURTHER INFORMATION CONTACT: Richard Rimlinger, AD/CVD Enforcement 3, Import Administration, International Trade Administration, U.S. Department of Commerce, Washington, D.C. 20230; telephone: (202) 482-4477.

Extension of Time Limits for Final Results

The Department of Commerce (the Department) has received requests to conduct administrative reviews of the antidumping duty orders on antifriction bearings (other than tapered roller bearings) and parts thereof (AFBs) from France, Germany, Italy, Japan, Sweden, and the United Kingdom. On July 7, 2000, the Department initiated these administrative reviews covering the period May 1, 1999, through December 31, 1999, for certain orders and May 1, 1999, through April 30, 2000, for other orders.

Because of the complexity of certain issues which have arisen and the large number of respondents under review, it is not practicable to complete these reviews within the time limits mandated by section 751(a)(3)(A) of the Tariff Act of 1930, as amended (the Act). Therefore, in accordance with that section, the Department is extending the time limit for the final results of these administrative reviews until July 5, 2001. This extension of the time limit is in accordance with section 751(a)(3)(A) of the Act.

Dated: June 5, 2001.
Richard W. Moreland,
Deputy Assistant Secretary for Import Administration.

[FR Doc. 01-14793 Filed 6-11-01; 8:45 am]

BILLING CODE 3510-DS-P